DEPARTMENT OF TRANSPORTATION

Federal Railroad Administration

[Docket Number FRA-2019-0046]

Notice of Petition for Extension of Waiver of Compliance

AGENCY: Federal Railroad Administration (FRA), Department of Transportation (DOT).

ACTION: Notice.

SUMMARY: This document provides the public notice that Norfolk Southern Corporation (NS) petitioned FRA for an extension of relief from certain regulations concerning injury and illness reporting and recordkeeping.

DATES: FRA must receive comments on the petition by August 11, 2025. FRA will consider comments received after that date to the extent practicable.

ADDRESSES:

Comments: Comments related to this docket may be submitted by going to https://www.regulations.gov and following the online instructions for submitting comments.

Instructions: All submissions must include the agency name and docket number. All comments received will be posted without change to https://www.regulations.gov; this includes any personal information. Please see the Privacy Act heading in the SUPPLEMENTARY INFORMATION section of this document for Privacy Act information related to any submitted comments or materials.

Docket: For access to the docket to read background documents or comments received, go to https://www.regulations.gov and follow the online instructions for accessing the docket.

FOR FURTHER INFORMATION CONTACT: Michael Wissman, Railroad Safety Specialist, FRA Incident Management, Accident Reporting, and Analysis Division, telephone: 610-314-5729, email: michael.wissman@dot.gov.

SUPPLEMENTARY INFORMATION: Under part 211 of title 49 Code of Federal Regulations (CFR), this document provides the public notice that by letter received May 2, 2025, NS petitioned FRA for an extension of a waiver of compliance from certain provisions of the Federal railroad safety regulations contained at 49 CFR part 225 (Railroad Accidents/Incidents: Reports Classification, and Investigations). FRA assigned the petition Docket Number FRA-2019-0046.

NS requests relief from 49 CFR 225.25(h), Recordkeeping, to continue posting its monthly listing of all injuries and occupational illnesses online instead of physically on paper. In its petition, NS explains that the information is available on NS's Comply365 (formerly the Operations Web Portal), which employees can access through computer terminals and other electronic devices.

In support of its petition, NS states that the virtual posting “provides an equivalent level of compliance [to the paper posting] by allowing employees to access and review this information at any time and from any location, including their home[s].” NS adds that employees may request from their supervisors a copy of the listings at any time. As the waiver has been in place for the previous five years, NS notes that “employees are accustomed to the establishment log being provided electronically.”

A copy of the petition, as well as any written communications concerning the petition, is available for review online at www.regulations.gov.

Interested parties are invited to participate in these proceedings by submitting written views, data, or comments. FRA does not anticipate scheduling a public hearing in connection with these proceedings since the facts do not appear to warrant a hearing. If any interested party desires an opportunity for oral comment and a public hearing, they should notify FRA, in writing, before the end of the comment period and specify the basis for their request.

Communications received by August 11, 2025 will be considered by FRA before final action is taken. Comments received after that date will be considered if practicable.

Privacy Act

Anyone can search the electronic form of any written communications and comments received into any of FRA's dockets by the name of the individual submitting the comment (or signing the document, if submitted on behalf of an association, business, labor union, etc.). Under 5 U.S.C. 553(c), DOT solicits comments from the public to inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety, Chief Safety Officer.

[FR Doc. 2025-12942 Filed 7-10-25; 8:45 am]

BILLING CODE 4910-06-P